DEPARTMENT OF COMMERCE

National Oceanic and Atmospheric Administration

Agency Information Collection Activities; Submission to the Office of Management and Budget for Review and Approval; Comment Request; Southeast Region Vessel and Gear Identification Requirements

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on May 9th, 2024 during a 60-day comment period. This notice allows for an additional 30 days for public comments.

Agency: National Oceanic and Atmospheric Administration, Commerce.

Title: Southeast Region Vessel and Gear Identification Requirements.

OMB Control Number: 0648-0358.

Form Number(s): None.

Type of Request: Regular submission—extension of a current information collection.

Number of Respondents: 10,031.

Estimated Time per Response: Vessel marking: 75 minutes. Gear marking: aquacultured live rocks, 10 seconds each; golden crab traps, 2 minutes each; spiny lobster traps and buoys, 7 minutes each; black sea bass pots, buoys, and buoy lines, 16 minutes each; and Spanish mackerel gillnet buoys, 20 minutes each; and buoy gear, 10 minutes each.

Total Annual Burden Hours: 40,335.

Needs and Uses: The NMFS Southeast Region manages domestic fisheries in the U.S. exclusive economic zone of the Caribbean, Gulf of Mexico, and South Atlantic regions under multiple fishery management plans (FMPs). The regional fishery management councils prepared the FMPs pursuant to the Magnuson-Stevens Fishery Conservation and Management Act (Magnuson-Stevens Act). NMFS implements the FMPs through located at 50 CFR part 622.

The regulations located at 50 CFR part 622 form the basis for the information collection requirements that are currently approved under OMB Control Number 0648-0358, Southeast Region Vessel and Gear Identification Requirements. NMFS has no immediate plans to change identification requirements for fishing vessels or gear in 50 CFR part 622. Accordingly, NMFS proposes to extend to the information collections under OMB Control Number 0648-0358 without change.

Regulations at 50 CFR part 622 require that all federally permitted fishing vessels must be marked with some form of identification. A vessel's official number, under most regulations, must be displayed on the port and starboard sides of the deckhouse or hull, and on the weather deck. In addition, regulations for certain fisheries also require the display of the assigned color code for the vessel. The official number and color code identify each vessel and should be visible at distance from the sea and in the air. These markings provide law enforcement personnel with a means to monitor fishing, at-sea processing, and other related activities, and to determine whether observed activities on the vessel are in accordance with those authorized for that vessel. NMFS, the United States Coast Guard, and other marine agencies use the identifying official number in monitoring compliance, issuing violations, prosecutions, and other enforcement actions. Vessels that are permitted for particular fisheries are readily identified and gear violations are more readily prosecuted, thereby enabling for more cost-effective enforcement.

In addition to vessel marking, requirements that fishing gear be marked are essential to facilitate enforcement. The ability to link fishing gear to the vessel owner is crucial to enforcement of regulations issued under the authority of the Magnuson-Stevens Act. The marking of fishing gear is also valuable in actions concerning damage, loss, and civil proceedings. The requirements imposed on U.S. fisheries in the southeast region apply to aquacultured live rock; golden crab traps; spiny lobster traps and buoys; black sea bass pots, buoys, and buoy lines; Spanish mackerel gillnet buoys; and buoy gear.

Affected Public: Business or other for-profit organizations.

Frequency: As needed.

Respondent's Obligation: Mandatory.

Legal Authority: 16 U.S.C. 1801 et seq.

This information collection request may be viewed at https://www.reginfo.gov. Follow the instructions to view the Department of Commerce collections currently under review by OMB.

Written comments and recommendations for the proposed information collection must be submitted within 30 days of the publication of this notice on the following website https://www.reginfo.gov/public/do/PRAMain. Find this particular information collection by selecting “Currently under 30-day Review—Open for Public Comments,” or by using the search function and entering either the title of the information collection or the OMB Control Number 0648-0358.

Sheleen Dumas,
Departmental PRA Clearance Officer, Office of the Under Secretary for Economic Affairs, Commerce Department.

[FR Doc. 2024-20269 Filed 9-6-24; 8:45 am]

BILLING CODE 3510-22-P